DEPARTMENT OF TRANSPORTATION

Federal Transit Administration

Competitive Funding Opportunity: Innovations in Transit Public Safety

AGENCY: Federal Transit Administration (FTA), DOT.

ACTION: Notice of Funding Opportunity (NOFO).

SUMMARY: The Federal Transit Administration (FTA) is soliciting proposals under the Department of Transportation's Public Transportation Innovation Program to select an eligible project or projects that will identify innovative solutions to reduce or eliminate human trafficking occurring on transit systems, protect transit operators from the risk of assault, and reduce crime on public transit vehicles and in facilities. The awarded projects will be referred to as the Innovations in Transit Public Safety projects, and the available funding is $2,000,000 in research funds.

DATES: Applicants must submit completed proposals for funding opportunity

FTA-2019-006-TSO through the GRANTS.GOV “APPLY” function by 11:59 p.m. Eastern Time on May 28, 2019. Prospective applicants should register as soon as possible on the GRANTS.GOV website to ensure they can complete the application process before the submission deadline. Application instructions are available on FTA's website at http://transit.dot.gov/howtoapply and in the “FIND” module of GRANTS.GOV.

FTA will not accept mail and fax submissions.

FOR FURTHER INFORMATION CONTACT: Dakisha Spratling, FTA Office of Transit Safety and Oversight; phone: (202) 366-2530; email: FTAPublicSafety@dot.gov.

SUPPLEMENTARY INFORMATION:

Table of Contents

A. Program Description

B. Federal Award Information

C. Eligibility Information

D. Application and Submission Information

E. Application Review Information

F. Federal Award Administration Information

G. Federal Awarding Agency Contacts Information

A. Program Description

The Innovations in Transit Public Safety projects are funded through the Public Transportation Innovation Program (49 U.S.C. 5312), with the goal of developing innovative projects that assist transit agencies with identifying and adopting specific measures to address public safety in transit systems, including crime prevention, human trafficking, and operator assault.

Human Trafficking is a crime that involves exploiting a person for labor, services, or commercial sex. Section 7102(9), of Title 22, U.S.C., defines “severe forms of trafficking in persons,” as:

(a) Sex trafficking in which a commercial sex act is induced by force, fraud, or coercion, or in which the person induced to perform such act has not attained 18 years of age; or

(b) The recruitment, harboring, transportation, provision, or obtaining of a person for labor or services, through the use of force, fraud, or coercion for the purpose of subjection to involuntary servitude, peonage, debt bondage, or slavery.

The coercion can be subtle or overt, physical or psychological. Exploitation of a minor for commercial sex is human trafficking, regardless of whether any form of force, fraud, or coercion was used. There is no single profile of a trafficking victim. Victims of human trafficking can be anyone—regardless of race, color, national origin, disability, religion, age, gender, sexual orientation, gender identity, socioeconomic status, education level, or citizenship status.

The U.S. Department of Transportation (DOT) combats human trafficking by working with public and private sector stakeholders to empower transportation employees and the traveling public to recognize and report possible instances of human trafficking. The Innovations in Transit Public Safety projects support the DOT's Transportation Leaders Against Human Trafficking initiative, which has the following focus areas: Leadership, training and education, policy development, public awareness, and information sharing and analysis.

Eligible projects will identify innovative solutions to reduce or eliminate human trafficking occurring on transit systems, protect transit operators from the risk of assault, and reduce crime on public transit vehicles and facilities. Specific project eligibility under this competitive allocation is described in Section C of this notice.

B. Federal Award Information

The FTA makes available $2,000,000 under the Public Transportation Innovation Program (49 U.S.C. 5312) to finance projects that demonstrate innovative methods of addressing and preventing human trafficking on transit, improving public safety in transit, and reducing crime on transit, including operator assault.

The FTA will grant pre-award authority starting on the date of project award announcements for selected projects. Funds are available only for projects that have not incurred costs prior to the announcement of project selections. The FTA may supplement the total funds currently available with future appropriations.

C. Eligibility Information

(1) Eligible Applicants

Eligible applicants for awards are limited to State and local governmental entities; providers of public transportation; non-profit organizations; or a consortium of entities, including a provider of public transportation, that will share the costs, risks, and rewards of early deployment and demonstration of innovation. Eligible applicants are limited to FTA grantees who would be the primary beneficiaries of the innovative products and services that are developed. Eligible applicants may submit consolidated proposals for projects. Proposals may contain projects the recipient or its subrecipients will implement. Eligible subrecipients include public agencies, private nonprofit organizations, and private providers engaged in public transportation.

(2) Cost Sharing or Matching

The maximum Federal share of project costs is 80 percent. The applicant must document the source(s) of the local match in the grant application. Eligible local match sources include the following:

Cash from non-Government sources other than revenues from providing public transportation services;

revenues derived from the sale of advertising and concessions;

revenues generated from value capture financing mechanisms;

funds from an undistributed cash surplus;

replacement or depreciation cash fund or reserve;

new capital; or

in-kind contributions.

The FTA may give additional consideration to applicants who propose a local share that is greater than the minimum requirement of 20 percent, and may view these applicants as more competitive.

(3) Eligible Projects

Eligible projects include innovation and development projects that advance the interests of public transportation, to include projects that identify innovative solutions to:

Reduce or eliminate human trafficking occurring at transit systems or through the use of transit systems,

protect transit operators from the risk of assault,

reduce crime on public transit vehicles and facilities, and

improve rider and public safety.

Key focus areas will be education and training, policy development, public awareness and outreach, and information sharing and analysis.

Applicants may each submit one proposal.

D. Application and Submission Information

(1) Address To Request Application Package

Applications must be submitted through GRANTS.GOV. Applicants can find general information for submitting applications through GRANTS.GOV at www.fta.dot.gov/howtoapply, along with specific instructions for the forms and attachments required for submission. Mail and fax submissions will not be accepted.

(2) Content and Form of Application Submission

a. Proposal Submission

A complete proposal submission consists of at least two forms:

1. The SF-424 Mandatory Form (downloadable from GRANTS.GOV) and

2. the supplemental form for the FY 2018 Innovations in Transit Public Safety Project (downloadable from GRANTS.GOV), which is available on FTA's website at (placeholder for FTA Human Trafficking Program website).

The application must include responses to all sections of the SF-424 mandatory form and the supplemental form unless a section is indicated as optional. FTA will use the information on the supplemental form to determine applicant and project eligibility for the program and to evaluate the proposal against the selection criteria described in part E of this notice. The FTA will accept only one supplemental form per SF-424 submission. The FTA encourages applicants to consider submitting a single supplemental form that includes multiple activities to be evaluated as a consolidated proposal.

Applicants may attach additional supporting information to the SF-424 submission, including but not limited to letters of support, project budgets, or excerpts from relevant planning documents. Supporting documentation must be described and referenced by file name in the appropriate response section of the supplemental form, or it may not be reviewed.

Information such as applicant name, Federal amount requested, local match amount, description of areas served, etc., may be requested in varying degrees of detail on both the SF-424 form and supplemental form. Applicants must fill in all fields unless stated otherwise on the forms. If applicants copy information into the supplemental form from another source, they should verify that the supplemental form has fully captured pasted text and that it has not truncated the text due to character limits built into the form. Applicants should use both the “Check Package for Errors” and the “Validate Form” validation buttons on both forms to check all required fields. Applicants should also ensure that the Federal and local amounts specified are consistent.

b. Application Content

The SF-424 Mandatory Form and the supplemental form will prompt applicants for the required information, including:

a. Applicant Name

b. Dun and Bradstreet (D&B) Data Universal Numbering System (DUNS) number

c. Key contact information (contact name, address, email address, and phone number)

d. Congressional district(s) where project will take place

e. Project Information (title, executive summary, and type)

f. A detailed description of the need for the project

g. A detailed description of how the project will support the Innovations in Transit Public Safety objectives

h. Evidence that the applicant can provide the local cost share

i. A description of the technical, legal, and financial capacity of the applicant

j. A detailed project budget

k. An explanation of the scalability of the project

l. Details on the local matching funds

m. A detailed project timeline

(3) Unique Entity Identifier and System for Award Management (SAM)

Each applicant is required to: (1) Be registered in SAM before submitting an application; (2) provide a valid unique entity identifier in its application; and (3) continue to maintain an active SAM registration with current information at all times during which the applicant has an active Federal award or an application or plan under consideration by FTA. These requirements do not apply if the applicant: (1) Is excepted from the requirements under 2 CFR 25.110(b) or (c); or (2) has an exception approved by FTA under 2 CFR 25.110(d). The FTA may not make an award until the applicant has complied with all applicable unique entity identifier and SAM requirements. If an applicant has not fully complied with the requirements by the time FTA is ready to make an award, FTA may determine that the applicant is not qualified to receive an award and use that determination as a basis for making a Federal award to another applicant. All applicants must provide a unique entity identifier provided by SAM. Registration in SAM may take as little as 3-5 business days, but there can be unexpected steps or delays. For example, the applicant may need to obtain an Employer Identification Number. The FTA recommends allowing ample time, up to several weeks, to complete all steps. For additional information on obtaining a unique entity identifier, please visit www.sam.gov.

(4) Submission Dates and Times

Project proposals must be submitted electronically through GRANTS.GOV by 11:59 p.m. Eastern on May 28, 2019. Mail and fax submissions will not be accepted.

The FTA urges applicants to submit applications at least 72 hours prior to the due date to allow time to correct any problems that may have caused either GRANTS.GOV or FTA systems to reject the submission. Proposals submitted after the deadline will only be considered under extraordinary circumstances not within the applicant's control.

Deadlines will not be extended due to scheduled website maintenance. GRANTS.GOV scheduled maintenance and outage times are announced on the GRANTS.GOV website.

Within 48 hours after submitting an electronic application, the applicant should receive two email messages from GRANTS.GOV: (1) Confirmation of successful transmission to GRANTS.GOV; and (2) confirmation of successful validation by GRANTS.GOV. If the applicant does not receive confirmation of successful validation or receives a notice of failed validation or incomplete materials, the applicant must address the reason for the failed validation, as described in the email notice, and resubmit before the submission deadline. If making a resubmission for any reason, applicants must include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to update their registration before submitting an application. Registration in SAM is renewed annually and persons making submissions on behalf of the Authorized Organization Representative (AOR) must be authorized in GRANTS.GOV by the AOR to make submissions.

(5) Funding Restrictions

Funds may be used for expenditures only. Funds under this NOFO cannot be used to reimburse projects for otherwise eligible expenses incurred prior to the date of project award announcements.

(6) Other Submission Requirements

The FTA encourages applicants to identify scaled funding options in case insufficient funding is available to fund a project at the full requested amount. If an applicant indicates that a project is scalable, the applicant must provide an appropriate minimum funding amount that will fund an eligible project that achieves the objectives of the program and meets all relevant program requirements. The applicant must provide a clear explanation of how a reduced award would affect the project budget. The FTA may award a lesser amount whether or not the applicant provides a scalable option.

E. Application Review Information

(1) Project Evaluation Criteria

Each application for Innovations in Transit Public Safety must include a statement of purpose detailing: (1) The need being addressed; (2) the short- and long-term goals of the project, including opportunities for future innovation and development and benefits to riders of public transportation; (3) how the project will improve personal safety in public transit stations and vehicles; and (4) the short- and long-term funding requirements to complete the project and any future objectives of the project.

The FTA will evaluate proposals submitted according to the following criteria: (a) Demonstration of need; (b) demonstration of benefits; (c) coordination, planning and partnerships; (d) local financial commitment; (e) project readiness; and (f) technical, legal and financial capacity. The FTA encourages each applicant to demonstrate how a project supports all criteria with the most relevant information the applicant can provide, regardless of whether such information has been specifically requested or identified in this notice.

a. Demonstration of Need

The FTA will evaluate proposals based on how the proposed project will address reducing crime and improving the safety of riders, including preventing human trafficking; and operators, including preventing operator assault. Proposals should clearly define the public safety challenge(s) experienced by the transit agency and its customers, and how the proposed project will improve transit public safety.

b. Demonstration of Benefits

The FTA will evaluate proposals on the benefits provided by the proposed project. The FTA is interested in how these investments will improve the quality of transit public safety, and in particular, rider safety and human trafficking awareness and prevention, as well as prevention of operator assault. The Innovations in Transit Public Safety projects provide an opportunity for communities to put into practice new and innovative ideas, practices, and approaches that reduce crime and address the personal safety of passengers and operators. The FTA encourages applicants to consider qualitative and quantitative benefits to transit systems, transit users, transit employees, and the surrounding communities. The FTA will rate proposals based on the quality and extent to which they discuss the following five factors:

i. The project's ability to improve transit safety and operator safety;

ii. The project's ability to provide quantitative data for expected benefits and outputs associated with the project;

iii. The degree to which the project addresses human trafficking prevention;

iv. Benefits such as increased educational opportunities; and

v. Outputs that promote collaboration between community organizations, local government entities, state government entities, and federal agencies.

Proposals must show that the applicant will be able to provide impact data during and at the conclusion of the project. Successful applicants will evaluate the performance of their project(s). At various points in the deployment process and at the end of the pilot project, the recipient will be asked by FTA, or its designee, to provide performance measures required to conduct this evaluation. The FTA requires each applicant to submit the performance data on a quarterly basis. This data will be used by FTA to produce the required Annual Report to Congress that contains a detailed description of the activities carried out under the research program, and an evaluation of the program, including an evaluation of the performance measures described.

c. Demonstration of Coordination, Planning, and Partnerships

Applicants must describe the eligible project and outline project partners (if any) and their specific role in the project. Applications should also include the following:

i. Discuss the level of support by the community and other organizations for the proposed project;

ii. Describe the opportunities for public participation that are or will be provided by the project;

iii. Describe how the proposed project complements rather than duplicates any current and similar innovations in transit public safety projects;

iv. Describe the implementation schedule for the proposed project, including time period, staffing, and procurement; and

v. Describe any other planning or coordination efforts not mentioned above.

d. Local Financial Commitment

Applicants must identify the source of the local share and describe whether such funds are currently available for the project or will need to be secured if the project is selected for funding. The FTA will consider the availability of the local share as evidence of local financial commitment to the project. In addition, an applicant may propose a local share that is greater than the minimum requirement or provide documentation of previous local investment in similar projects as evidence of local financial commitment. The FTA may give additional consideration to applicants who propose a local share that is greater than the minimum requirement of 20 percent, and may view these applicants as more competitive.

e. Project Readiness

The FTA will evaluate the proposed schedule and the applicant's ability to implement it. Applicants should indicate the short-term, mid-range, and long-term goals for the project. The project readiness factor involves assessing whether:

i. Project implementation plan documents are complete;

ii. Project funds can be obligated and the project can be implemented quickly, if selected; and

iii. The applicant demonstrates the ability to carry out the proposed project successfully.

f. Technical, Legal and Financial Capacity

The FTA will evaluate the capacity of the applicant and any partners to successfully execute the research effort. There should be no outstanding legal, technical, or financial issues with the applicant that would make this a high-risk project. The FTA will evaluate each proposal (including the business plan, financial projections, and other relevant data) for feasibility and longer-term sustainability. It is FTA's intent to select projects with a high likelihood of long-term success, sustainability, and ability to be replicated in other communities.

(2) Review and Selection Process

An FTA technical evaluation committee will evaluate proposals based on the published project evaluation criteria. Members of the technical evaluation committee and other involved FTA staff will rate the applications, and may seek clarification about any statement in an application. The FTA Administrator will determine the final selection and amount of funding for each project after consideration of the findings of the technical evaluation committee. Geographic diversity and the applicant's receipt and management of other Federal transit funds may be considered in FTA's award decisions. The FTA Administrator will consider the following key DOT objectives:

a. Supporting economic vitality at the national and regional level;

b. Utilizing alternative funding sources and innovative financing models to attract non-Federal sources of investment;

c. Whether the project is located in or supports public transportation service in a qualified opportunity zone designated pursuant to 26.U.S.C. 1400Z-1;

d. Using innovative approaches to improve safety and expedite project delivery; and,

e. Holding grant recipients accountable for their performance and achieving specific, measurable outcomes identified by grant applicants.

Prior to making an award, FTA is required to review and consider any information about the applicant that is in the Federal Awardee Performance and Integrity Information System (FAPIIS) accessible through SAM. An applicant may review and comment on information about itself that a Federal awarding agency previously entered.

The FTA will consider any comments by the applicant, in addition to the other information in FAPIIS, in making a judgment about the applicant's integrity, business ethics, and record of performance under Federal awards when completing the review of risk posed by applicants as described in 2 CFR 200.205 Federal Awarding Agency Review of Risk Posed by Applicants.

F. Federal Award Administration

(1) Federal Award Notice

The FTA will announce the final project selections on the FTA website. Project recipients should contact their FTA Regional Office for additional information regarding allocations for projects. At the time project selections are announced, FTA will extend pre-award authority for the selected projects. There is no blanket pre-award authority for these projects before announcement.

(2) Award Administration

There is no minimum or maximum grant award amount; however, FTA intends to fund as many meritorious projects as possible. The FTA will only consider proposals from eligible recipients for eligible activities. Due to funding limitations, projects selected for funding may receive less than the amount originally requested. In those cases, applicants must be able to demonstrate that the proposed projects are still viable and can be completed with the amount awarded.

(3) Administrative and National Policy Requirements

a. Pre-Award Authority

The FTA will issue specific guidance to recipients regarding pre-award authority at the time of selection. The FTA does not provide pre-award authority for competitive funds until projects are selected, and there are Federal requirements that must be met before costs are incurred. For more information about FTA's policy on pre-award authority, please see the FY 2018 Apportionments Notice published on July 16, 2018, at https://www.gpo.gov/fdsys/pkg/FR0-2018-07-16/pdf/2018-14989.pdf.

b. Grant Requirements

Selected applicants will submit a grant application through FTA's electronic grant management system and adhere to the customary FTA grant requirements. All competitive grants, regardless of award amount, will be subject to the Congressional notification and release process. The FTA emphasizes that third-party procurement applies to all funding awards, as described in FTA Circular 4220.1F, “Third Party Contracting Guidance.” However, FTA may approve applications that include a specifically identified partnering organization(s) (2 CFR 200.302(f)). When included, the application, budget, and budget narrative should provide a clear understanding of how the selection of these organizations is critical for the project and give sufficient detail about the costs involved.

c. Planning

The FTA encourages applicants to engage the appropriate State Departments of Transportation, Regional Transportation Planning Organizations, or Metropolitan Planning Organizations in areas to be served by the project funds available under this programs.

d. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project unless FTA issues a written determination otherwise. The applicant must submit the Certifications and Assurances before receiving a grant if it does not have current certifications on file.

(4) Reporting

The post-award reporting requirements include submission of the Federal Financial Report (FFR) and Milestone Progress Report in TrAMs. An evaluation of the pilot program or research grant will occur at various points in the deployment process and at the end of the project. In addition, FTA is responsible for producing an Annual Report to Congress that compiles evaluations of selected projects, including an evaluation of the performance measures identified by the applicants. All applicants must develop an evaluation plan to measure the success or failure of their projects and to describe any plans for broad-based implementation of successful projects. FTA may request data and reports to support the evaluation and Annual Report.

G. Federal Awarding Agency Contact

For questions about applying, please contact Dakisha Spratling, at Federal Transit Administration, Office of Transit Safety and Oversight, phone: (202) 366-2530, or email, FTAPublicSafety@dot.gov. A TDD is available at 1-800-877-8339 (TDDFIRS). To ensure that applicants receive accurate information about eligibility or the program, applicants are encouraged to contact FTA directly with questions, rather than through intermediaries or third parties. The FTA staff may also conduct briefings on the competitive grants selection and award process upon request.

K. Jane Williams,
Acting Administrator.

[FR Doc. 2019-06071 Filed 3-28-19; 8:45 am]

BILLING CODE 4910-57-P